DEPARTMENT OF COMMERCE

International Trade Administration

[A-570-967, C-570-968]

Aluminum Extrusions From the People's Republic of China: Preliminary Results of Changed Circumstances Reviews, and Intent To Revoke Antidumping and Countervailing Duty Orders in Part

AGENCY: Enforcement and Compliance, formerly Import Administration, International Trade Administration, Department of Commerce.

DATES: Effective: November 7, 2013.

SUMMARY: On June 20, 2013, the Department of Commerce (Department) received a request for changed circumstances reviews and a request to revoke, in part, the antidumping (AD) and countervailing duty (CVD) orders on aluminum extrusions from the People's Republic of China (PRC),¹ with respect to certain rectangular wire. We published the notice of initiation of changed circumstances reviews on August 20, 2013 and invited comments from interested parties. We received no comments. We preliminarily conclude that changed circumstances warrant the revocation of the Orders, in part. Specifically, we preliminarily determine that producers accounting for substantially all of the production of the domestic like product to which these Orders pertain lack interest in the relief provided by the AD and CVD Orders based on a statement of no interest in the continuation of the Orders with respect to certain rectangular wire described below. Accordingly, we are notifying the public of our intent to revoke, in part, these Orders as to imports of certain rectangular wire described below. The Department invites interested parties to comment on these preliminary results.

¹ See Aluminum Extrusions from the People's Republic of China: Antidumping Duty Order, 76 FR 30650 (May 26, 2011) and Aluminum Extrusions From the People's Republic of China: Countervailing Duty Order, 76 FR 30653 (May 26, 2011) (together, the Orders).

FOR FURTHER INFORMATION CONTACT: James Terpstra, Office III, Enforcement and Compliance, International Trade Administration, U.S. Department of Commerce, 14th Street and Constitution Avenue NW., Washington DC 20230; telephone (202) 482-3965.

Background

On May 26, 2011, the Department published the AD and CVD Orders in the Federal Register. On June 20, 2013, the Department received a request on behalf of 3M Company (3M) for changed circumstances reviews to revoke, in part, the Orders with respect to certain rectangular wire imported by 3M. In its request, 3M attached a letter submitted on behalf of the Aluminum Extrusion Fair Trade Committee (AEFTC), the petitioners in the less-than-fair-value and CVD investigations, and the Aluminum Extrusion Council (AEC), in which representatives of the AEFTC and AEC stated that they no longer have interest in maintaining the Orders with respect to certain rectangular wire-identified in 3M's request for the changed circumstances reviews.

On July 2, 2013, 3M filed a letter containing a clarification from the AEFTC and AEC in which they stated that they no longer have interest in maintaining the Orders with respect to certain rectangular wire, regardless of whether 3M or another party imports it. On August 20, 2013, we published a notice of initiation of these changed circumstances reviews.² Because the statement provided by the AEC and offered in support of 3M's request for changed circumstances reviews did not indicate whether the AEC accounts for substantially all of domestic aluminum extrusion production, in the Initiation Notice, we invited interested parties to comment on the Department's initiation. We received no comments from interested parties.

² See Aluminum Extrusions from the People's Republic of China: Initiation of Changed Circumstance Reviews and Consideration of Revocation of the Antidumping and Countervailing Duty Orders in Part, 78 FR 51143 (August 20, 2013) (Initiation Notice).

Scope of the Orders

The merchandise covered by these Orders is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including bright-dip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled `as is' into a finished product. An imported product will not be considered a `finished goods kit' and therefore excluded from the scope of the investigation merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) length of 37 millimeters (mm) or 62 mm, (2) outer diameter of 11.0 mm or 12.7 mm, and (3) wall thickness not exceeding 0.13 mm.

Also excluded from the scope of these Orders are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (HTSUS): 7604.21.0000, 7604.29.1000, 7604.29.3010, 7604.29.3050, 7604.29.5030, 7604.29.5060, 7608.20.0030, and 7608.20.0090. The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60.

Additional subject products may be classifiable under the following HTSUS categories: 7615.19.10, 7615.19.30, 7615.19.50, 7615.19.70, 7615.19.90, 7616.99.10, 7616.99.50, 8302.10.3000, 8302.10.6030, 8302.10.6060, 8302.10.6090, 8302.30.3010, 8302.30.3060, 8302.41.3000, 8302.41.6015, 8302.41.6045, 8302.41.6050, 8302.41.6080, 8302.42.3010, 8302.42.3015, 8302.42.3065, 8302.49.6035, 8302.49.6045, 8302.49.6055, 8302.49.6085, 8302.50.0000, 8302.60.9000, 8306.30.0000, 8419.90.1000, 8479.89.98, 8479.90.94, 8513.90.20, 9403.10.00, 9403.20.00, 9403.90.1040, 9403.90.1050, 9403.90.1085, 9403.90.2540, 9403.90.2580, 9403.90.4005, 9403.90.4010, 9403.90.4060, 9403.90.5005, 9403.90.5010, 9403.90.5080, 9403.90.6005, 9403.90.6010, 9403.90.6080, 9403.90.7005, 9403.90.7010, 9403.90.7080, 9403.90.8010, 9403.90.8015, 9403.90.8020, 9403.90.8030, 9403.90.8041, 9403.90.8051, 9403.90.8061, 9506.11.4080, 9506.51.4000, 9506.51.6000, 9506.59.4040, 9506.70.2090, 9506.91.0010, 9506.91.0020, 9506.91.0030, 9506.99.0510, 9506.99.0520, 9506.99.0530, 9506.99.1500, 9506.99.2000, 9506.99.2580, 9506.99.2800, 9506.99.6080, 9507.30.2000, 9507.30.4000, 9507.30.6000, and 9507.90.6000.

While HTSUS subheadings are provided for convenience and customs purposes, the written description of the scope of these Orders is dispositive.

Scope of Changed Circumstance Reviews

The merchandise covered by these changed circumstances reviews is:

{C}ertain rectangular wire produced from continuously cast rolled aluminum wire rod, which is subsequently extruded to dimension to form rectangular wire. The product is made from aluminum alloy grade 1070 or 1370, with no recycled metal content allowed. The dimensions of the wire are 5 mm (+/− 0.05 mm) in width and 1.0 mm (+/− 0.02 mm) in thickness. Imports of rectangular wire are provided for under HTSUS category 7605.19.000.

Preliminary Results of Changed Circumstances Reviews, and Intent To Revoke the Orders in Part

Pursuant to section 751(d)(1) of the Tariff Act of 1930, as amended (the Act), and 19 CFR 351.222(g), the Department may revoke an AD or CVD order, in whole or in part, based on a review under section 751(b) of the Act (i.e., a changed circumstances review). Section 751(b)(1) of the Act requires a changed circumstances review to be conducted upon receipt of a request which shows changed circumstances sufficient to warrant a review. Section 782(h)(2) of the Act gives the Department the authority to revoke an order if producers accounting for substantially all of the production of the domestic like product have expressed a lack of interest in the order. 19 CFR 351.222(g) provides that the Department will conduct a changed circumstances review under 19 CFR 351.216, and may revoke an order (in whole or in part), if it concludes that (i) producers accounting for substantially all of the production of the domestic like product to which the order pertains have expressed a lack of interest in the relief provided by the order, in whole or in part, or (ii) if other changed circumstances sufficient to warrant revocation exist. Both the Act and the Department's regulations require that “substantially all” domestic producers express a lack of interest in the order for the Department to revoke the orders, in whole or in part.³ The Department has interpreted “substantially all” to represent producers accounting for at least 85 percent of U.S. production of the domestic like product.⁴

³ See section 782(h) of the Act and 19 CFR 351.222(g).

⁴ See Honey from Argentina; Antidumping and Countervailing Duty Changed Circumstances Reviews; Preliminary Intent to Revoke Antidumping and Countervailing Duty Orders, 77 FR 67790, 67791 (November 14, 2012) (Honey CCR), unchanged in Honey from Argentina; Final Results of Antidumping and Countervailing Duty Changed Circumstances Reviews; Revocation of Antidumping and Countervailing Duty Orders, 77 FR 77029 (December 31, 2012).

As noted in the Initiation Notice, 3M requested the revocation of the Orders, in part, and supported its request. In light of 3M's submission and because the Department received no comments during the comment period, we preliminarily conclude that changed circumstances warrant revocation of the Orders, in part, because producers accounting for substantially all of the production of the domestic like product, to which these Orders pertain, lack interest in the relief provided by the Orders with respect to the certain rectangular wire that is the subject of 3M's request.

Accordingly, we are notifying the public of our intent to revoke the Orders, in part, with respect to certain rectangular wire. We intend to revoke the Orders as to certain rectangular wire by including the following language in the scope of each order:

Also excluded from the scope of the order is certain rectangular wire produced from continuously cast rolled aluminum wire rod, which is subsequently extruded to dimension to form rectangular wire. The product is made from aluminum alloy grade 1070 or 1370, with no recycled metal content allowed. The dimensions of the wire are 5 mm (+/− 0.05 mm) in width and 1.0 mm (+/− 0.02 mm) in thickness. Imports of rectangular wire are provided for under HTSUS category 7605.19.000.

Request to Expedite Final Results

On September 5, 2013, 3M requested that the Department expedite the changed circumstances reviews and issue final results no later than October 4, 2013.⁵ 3M argued that the Department's regulations do not specify a deadline for the issuance of preliminary results of a changed circumstances review, but provide that the Department will issue the final results within 45 days if all parties to the proceeding agree to the outcome of the review.⁶ 3M argued that, because no party submitted comments in opposition to their request, the Department should conclude that all parties agree with their request and issue the final results no later than 45 days after the Initiation Notice, or October 4, 2013.⁷

⁵ See “Aluminum Extrusions from the People's Republic of China: Request to Expedite Changed Circumstance Review” (September 5, 2013) (3M's Request).

⁶ Id., at 2, quoting 19 CFR 351.216(e).

⁷ Id., at 2-3.

The Department did not issue a combined notice of initiation and preliminary results because, as discussed above, the statement provided by the AEC and offered in support of 3M's request for changed circumstances reviews does not indicate whether the AEC accounts for substantially all of domestic aluminum extrusion production.⁸ Thus, the Department did not determine, at the time the Initiation Notice was published, that producers accounting for substantially all of the production of the domestic like product lacked interest in the continued application of the Orders as to certain rectangular wire. Further, the Department requested interested party comments on the issue of domestic industry support of partial revocations.⁹ As noted above, because the Department received no comments during the comment period, including comments concerning industry support or opposing initiation of the changed circumstances reviews of the Orders, the Department now preliminary finds that producers accounting for substantially all of the production of the domestic like product lack interest in the relief afforded by the Orders with respect to the certain rectangular wire, and requests comment on that preliminary finding, before issuing the final results.¹⁰

⁸ See Initiation Notice, 78 FR at 51144.

⁹ Id.

¹⁰ See, e.g., Honey CCR; see also 19 CFR 351.222(g)(1)(v) (providing that, if the Department's preliminary decision is that changed circumstances warrant revocation, the Department will publish the notice of preliminary results, pursuant to 19 CFR 351.221(b)(4), and notice of intent to revoke order in part).

Public Comment

Interested parties are invited to comment on these preliminary results in accordance with 19 CFR 351.309(c)(1)(ii). If an interested party is of the view that certain arguments continue to be relevant to the Department's final results of this review, that interested party is required to file a case brief containing all such arguments, including any such arguments presented to the Department before the date of publication of the preliminary results, pursuant to 19 CFR 351.309(c)(2). Written comments may be submitted no later than 14 days after the date of publication of these preliminary results. Rebuttals to written comments, limited to issues raised in such comments, may be filed no later than 21 days after the date of publication of these preliminary results. All comments are to be filed electronically using Enforcement and Compliance's Antidumping and Countervailing Duty Centralized Electronic Service System (IA ACCESS) available to registered users at http://iaaccess.trade.gov and in the Central Records Unit, Room 7046 of the main Department of Commerce building, and must also be served on interested parties.¹¹ An electronically filed document must be received successfully in its entirety by IA ACCESS by 5:00 p.m. Eastern Standard Time on the day it is due.¹²

¹¹ See 19 CFR 351.303(f).

¹² See 19 CFR 351.310(c).

The Department will issue the final results of these changed circumstances reviews, which will include its analysis of any written comments, no later than 270 days after the date on which these reviews were initiated.

If, in the final results, the Department continues to determine that changed circumstances warrant the revocation of the Orders, in part, we will instruct U.S. Customs and Border Protection (CBP) to liquidate without regard to ADs and CVDs, and to refund any estimated ADs and CVDs collected, on all unliquidated entries of the product in question that are not covered by the final results of an administrative review or automatic liquidation. Specifically, because there has been no completed administrative review of the Orders, we will instruct CBP to liquidate, without regard to ADs and CVDs, and refund estimated ADs and CVDs collected, on unliquidated entries of aluminum extrusions meeting the specifications of the product in question, entered or withdrawn from warehouse, for consumption, on or after November 12, 2010 (for ADs) and September 7, 2010 (for CVDs).

The current requirement for cash deposits of estimated ADs and CVDs on all entries of subject merchandise will continue unless and until they are modified pursuant to the final results of these changed circumstances reviews.

These preliminary results of review and notice are in accordance with sections 751(b) and 777(i) of the Act and 19 CFR 351.221 and 19 CFR 351.222.

Dated: October 31, 2013.
Paul Piquado,
Assistant Secretary for Enforcement and Compliance.

[FR Doc. 2013-26744 Filed 11-6-13; 8:45 am]

BILLING CODE 3510-DS-P